DEPARTMENT OF COMMERCE

National Oceanic and Atmospheric Administration

[I.D. 051906C]

Endangered Species; File No. 1579

AGENCY: National Marine Fisheries Service (NMFS), National Oceanic and Atmospheric Administration (NOAA), Commerce.

ACTION: Notice; Receipt of application.

SUMMARY: Notice is hereby given that Alden Research Laboratory, Inc. (Edward P. Taft, Responsible Party), 30 Shrewsbury Street, Holden, MA, 01520, has applied in due form for a permit to take shortnose sturgeon (Acipenser brevirostrum) for purposes of scientific research.

DATES: Written, telefaxed, or e-mail comments must be received on or before June 26, 2006.

The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9328; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by email. The mailbox address for providing email comments is NMFS.Pr1Comments@noaa.gov. Include in the subject line of the email comment the following document identifier: File No. 1579.

FOR FURTHER INFORMATION CONTACT: Kate Swails or Jennifer Skidmore (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to conduct research on entrainment and impingement rates for selected bar rack and bypass configurations in attempt to identify design criteria for a downstream passage facility at the Hadley Falls Hydroelectric Project on the Connecticut River. The applicant would use captive-bred sturgeon and all testing would take place in the Alden Lab testing flume. Annually, up to 200 sturgeon would be transported from hatcheries, measured, handled, Passive Integrated Transponder tagged, and participate in the flume testing. At the end of the five-year study the sturgeon would be sacrificed.

Dated: May 19, 2006.
P. Michael Payne,
Chief, Permits, Conservation and Education Division, Office of Protected Resources, National Marine Fisheries Service.

[FR Doc. E6-8181 Filed 5-26-06; 8:45 am]

BILLING CODE 3510-22-S